OFFICE OF THE UNITED STATES TRADE REPRESENTATIVE

Generalized System of Preferences (GSP): Notice of Review of Certain Pending Country Practice Petitions

AGENCY: Office of the United States Trade Representative.

ACTION: Request for submissions and notice of public hearing.

SUMMARY: As part of past GSP annual reviews, the Office of the United States Trade Representative (USTR) accepted for review petitions to modify the GSP status of certain GSP beneficiary developing countries because of country practices. This notice announces the schedule for submissions and a public hearing on the ongoing reviews of outstanding country practice petitions related to concerns about internationally recognized worker rights and/or child labor in Bangladesh, Niger, Philippines, Sri Lanka, and Uzbekistan. In addition, the hearing will include testimony on a country practice petition related to the Republic of Georgia. (See 76 FR 67530.)

FOR FURTHER INFORMATION CONTACT: Tameka Cooper, GSP Program, Office of the United States Trade Representative, 1724 F Street NW., Room F-214, Washington, DC 20508. The telephone number is (202) 395-6971, the fax number is (202) 395-2961, and the e-mail address is Tameka_Cooper@ustr.eop.gov.

DATES: The GSP regulations (15 CFR Part 2007) provide the schedule of dates for conducting an annual review unless otherwise specified in a notice published in the Federal Register. The schedule for the review of the country practice petitions cited above follows.

January 10, 2012: Due date for submission of pre-hearing briefs and requests to appear at the GSP Subcommittee Public Hearing; must be submitted by 5 p.m.

January 24, 2012: GSP Subcommittee Public Hearing on the the subject country practice petitions, to be held at 1724 F Street NW., Washington, DC 20508, beginning at 9:30 a.m.

February 14, 2012: Due date for submission of post-hearing briefs and comments from the public.

SUPPLEMENTARY INFORMATION: The GSP program provides for the duty-free importation of eligible articles when imported from designated beneficiary developing countries. The GSP program is authorized by Title V of the Trade Act of 1974 (19 U.S.C. 2461, et seq.), as amended, and is implemented in accordance with Executive Order 11888 of November 24, 1975, as modified by subsequent Executive Orders and Presidential Proclamations.

Notice of Public Hearing

A hearing will be held by the GSP Subcommittee of the TPSC on Tuesday, January 24, 2012, for the country practice petitions described above beginning at 9:30 a.m. at 1724 F Street NW., Washington, DC 20508. The hearing will be open to the public, and a transcript of the hearing will be made available for public inspection or can be purchased from the reporting company. No electronic media coverage or recording devices will be allowed.

All interested parties wishing to make an oral presentation at the hearing must submit, following the “Requirements for Submissions” set out below, the name, address, telephone number, facsimile number, and email address, if available, of the witness(es) representing their organization to William D. Jackson, Deputy Assistant U.S. Trade Representative for GSP, by 5 p.m., January 10, 2012. Requests to present oral testimony must be accompanied by a written brief or statement, in English. Oral testimony before the GSP Subcommittee will be limited to five-minute presentations that summarize or supplement information contained in briefs or statements submitted for the record. Post-hearing briefs or statements will be accepted if they conform with the regulations cited below and are submitted, in English, by 5 p.m., February 14, 2012. Parties not wishing to appear at the public hearing may submit pre-hearing briefs or comments, in English, by 5 p.m., January 10, 2012, and post-hearing written briefs or comments, in English, by 5 p.m., February 14, 2012.

Requirements for Submissions

All submissions for the GSP Annual Review must conform to the GSP regulations set forth at 15 CFR part 2007, except as modified below. These regulations are available on the USTR Web site at http://www.ustr.gov/trade-topics/trade-development/preference-programs/generalized-system-preference-gsp/gsp-program-inf. Any person or party making a submission is strongly advised to review the GSP regulations and the GSP Guidebook, available at: http://www.ustr.gov/webfm_send/2880.

To ensure their timely and expeditious receipt and consideration, submissions in response to this notice must be submitted online at http://www.regulations.gov. Hand-delivered submissions will not be accepted. Submissions must be submitted in English by the applicable deadlines set forth in this notice.

To make a submission using http://www.regulations.gov, enter docket number USTR-2011-0015 in the “Enter Keyword or ID” field on the home page and click “Search.” The site will provide a search-results page listing all documents associated with this docket. Find a reference to this notice by selecting “Notice” under “Document Type” in the top-middle section of the search-results page, and click on the link entitled “Submit a Comment.” The http://www.regulations.gov Web site offers the option of providing comments by filling in a “Type Comment” field or by attaching a document using the “Upload file(s)” field. Given the detailed nature of the information sought by the GSP Subcommittee, it is preferred that submissions be provided in an attached document. When attaching a document, type (1) 2011 GSP Annual Review; (2) the country and case number of the subject petition; (3) “See attached” in the “Type Comment” field on the online submission form, and indicate on the attachment whether the document is, as appropriate, “Written Comments,” “Notice of Intent to Testify,” “Pre-hearing brief,” or a “Post-hearing brief.” The case number and country name can be found in the document “2011 Annual Review List of Country Practice Petitions under Review,” which can be found on the USTR Web site at http://www.ustr.gov/trade-topics/trade-development/preference-programs/generalized-system-preference-gsp/current-review-4. Submissions should not exceed 30 single-spaced, standard letter-size pages in 12-point type, including attachments. Any data attachments to the submission should be included in the same file as the submission itself, and not as separate files.

Each submitter will receive a submission tracking number upon completion of the submissions procedure at http://www.regulations.gov. The tracking number will be the submitter's confirmation that the submission was received into http://www.regulations.gov. The confirmation should be kept for the submitter's records. USTR is not able to provide technical assistance for the Web site. Documents not submitted in accordance with these instructions may not be considered in this review. If unable to provide submissions as requested, please contact the GSP Program at USTR to arrange for an alternative method of transmission.

Business Confidential Submissions

A person seeking to request that information contained in a submission from that person be treated as business confidential information must certify that such information is business confidential and would not customarily be released to the public by the submitter. Confidential business information must be clearly designated as such. The submission must be marked “BUSINESS CONFIDENTIAL” at the top and bottom of the cover page and each succeeding page, and the submission should indicate, via brackets, the specific information that is confidential. Additionally, “Business Confidential” must be included in the “Type Comment” field. Any submission containing business confidential information must be accompanied by a separate non-confidential version of the confidential submission, indicating where confidential information has been redacted. The non-confidential version will be placed in the docket and open to public inspection.

Public Viewing of Review Submissions

Submissions in response to this notice, except for information granted “business confidential” status under 15 CFR § 2003.6, will be available for public viewing pursuant to 15 CFR 2007.6 at http://www.regulations.gov upon completion of processing and no later than approximately two weeks after the relevant due date. Such submissions may be viewed by entering the docket number USTR-2011-0015 in the search field at: http://www.regulations.gov.

William D. Jackson,
Deputy Assistant U.S. Trade Representative for the Generalized System of Preferences and Chair of the GSP Subcommittee of the Trade Policy Staff Committee, Office of the U.S. Trade Representative.

[FR Doc. 2011-31829 Filed 12-9-11; 8:45 am]

BILLING CODE 3190-W9-P